NUCLEAR REGULATORY COMMISSION

[NRC-2025-0001]

Sunshine Act Meetings

TIME AND DATE: Weeks of June 9, 16, 23, 30, and July 7, 14, 2025. The schedule for Commission meetings is subject to change on short notice. The NRC Commission Meeting Schedule can be found on the internet at: https://www.nrc.gov/public-involve/public-meetings/schedule.html.

PLACE: The NRC provides reasonable accommodation to individuals with disabilities where appropriate. If you need a reasonable accommodation to participate in these public meetings or need this meeting notice or the transcript or other information from the public meetings in another format (e.g., braille, large print), please notify Anne Silk, NRC Disability Program Specialist, at 301-287-0745, by videophone at 240-428-3217, or by email at Anne.Silk@nrc.gov. Determinations on requests for reasonable accommodation will be made on a case-by-case basis.

STATUS: Public.

Members of the public may request to receive the information in these notices electronically. If you would like to be added to the distribution, please contact the Nuclear Regulatory Commission, Office of the Secretary, Washington, DC 20555, at 301-415-1969, or by email at Betty.Thweatt@nrc.gov or Samantha.Miklaszewski@nrc.gov.

MATTERS TO BE CONSIDERED:

Week of June 9, 2025

There are no meetings scheduled for the week of June 9, 2025.

Week of June 16, 2025—Tentative

Tuesday, June 17, 2025

10:00 a.m. Briefing on Human Capital and Equal Employment Opportunity (Public Meeting) (Contact: Erin Deeds: 301-415-2887)

Additional Information: The meeting will be held in the Commissioners' Hearing Room, 11555 Rockville Pike, Rockville, Maryland. The public is invited to attend the Commission's meeting in person or watch live via webcast at the web address— https://video.nrc.gov/.

Week of June 23, 2025—Tentative

There are no meetings scheduled for the week of June 23, 2025.

Week of June 30, 2025—Tentative

There are no meetings scheduled for the week of June 30, 2025.

Week of July 7, 2025—Tentative

There are no meetings scheduled for the week of July 7, 2025.

Week of July 14, 2025—Tentative

There are no meetings scheduled for the week of July 14, 2025.

CONTACT PERSON FOR MORE INFORMATION: For more information or to verify the status of meetings, contact Chris Markley at 301-415-6293 or via email at Christopher.Markley@nrc.gov.

The NRC is holding the meetings under the authority of the Government in the Sunshine Act, 5 U.S.C. 552b.

Dated: June 4, 2025.
For the Nuclear Regulatory Commission.
Christopher Markley,
Policy Coordinator, Office of the Secretary.

[FR Doc. 2025-10380 Filed 6-4-25; 11:15 am]

BILLING CODE 7590-01-P